DEPARTMENT OF THE TREASURY

Office of Foreign Assets Control

Unblocking of Specially Designated Nationals and Blocked Persons Pursuant to Executive Order 12978

AGENCY: Office of Foreign Assets Control, Treasury.

ACTION: Notice.

SUMMARY: The Treasury Department's Office of Foreign Assets Control (“OFAC”) is publishing the names of four individuals and three entities whose property and interests in property have been unblocked pursuant to Executive Order 12978 of October 21, 1995, Blocking Assets and Prohibiting Transactions With Significant Narcotics Traffickers.

DATES: The unblocking and removal from the list of Specially Designated Nationals and Blocked Persons (“SDN List”) of the entities and individuals identified in this notice whose property and interests in property were blocked pursuant to Executive Order 12978 of October 21, 1995, is effective on June 26, 2009.

FOR FURTHER INFORMATION CONTACT: Assistant Director, Compliance Outreach & Implementation, Office of Foreign Assets Control, Department of the Treasury, Washington, DC 20220, tel.: 202/622-2420.

SUPPLEMENTARY INFORMATION:

Electronic and Facsimile Availability

This document and additional information concerning OFAC are available from OFAC's Web site (http://www.treas.gov/ofac) via facsimile through a 24-hour fax-on demand service, tel.: (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On June 26, 2009, the Director of OFAC removed from the SDN List the three entities and four individuals listed below, whose property and interests in property were blocked pursuant to the Order.

The listing of the unblocked entities and individuals follows:

Administracion De Recursos Financieros E.U. (a.k.a. AFIN E.U.), Calle 20N No. 6AN-19 ofc. 67-68, Cali, Colombia; NIT # 805013294-5 (Colombia) [SDNT]

Asesorias Ocupacionales LTDA., Carrera 66 No. 11-129, Cali, Colombia; NIT # 800040728-6 (Colombia) [SDNT]

Promotores De Bienes Raices S.A. (a.k.a. Promobienes S.A.), Calle 20N No. 6AN-19 ofc. 67, Cali, Colombia; NIT # 805001651-1 (Colombia) [SDNT]

Ramirez Rivera, Gustavo, c/o Unidad Cardiovascular LTDA., Cali, Colombia; Avenida 4 Oeste No. 6-103, Cali, Colombia; Calle 25 N No. 5BN-16, Cali, Colombia; DOB 05 Apr 1968; POB Medellin, Colombia; Cedula No. 16281514 (Colombia); Passport AJ077853 (Colombia) (individual) [SDNT]

Valero Jimenez, Alejandro, c/o Unidad Cardiovascular LTDA., Cali, Colombia; Transversal 18 No. 102-42 apto. 401, Bogota, Colombia; 826 SW Canary Terrace, Port St. Lucie, FL 34953; c/o Administracion De Recursos Financieros E.U., Cali, Colombia; c/o Promotores De Bienes Raices S.A., Cali, Colombia; DOB 25 Oct 1967; POB Cali, Colombia; Cedula No. 16746340 (Colombia); Passport P059298 (Colombia) (individual) [SDNT]

Valero Sanchez, Francisco Javier, c/o Asesorias Ocupacionales LTDA., Cali, Colombia; c/o Unidad Cardiovascular LTDA., Cali, Colombia; c/o Promotores De Bienes Raices S.A., Cali, Colombia; Cedula No. 2436976 (Colombia) (individual) [SDNT]

Zuluaga Alzate, Diana Patricia, c/o Orlando Sabogal Zuluaga E Hijos & CIA S EN C, Ansermanuevo, Valle, Colombia; Avenida 17A No. 19-27, Barrio San Jose, Cucuta, Norte de Santander, Colombia; Carrera 3 No. 11-99, Cartago, Valle, Colombia; Paseo 5 de Julio, Barrio Libertad, San Antonio, Tachira, Venezuela; Calle 14 No. 30-153, Medellin, Antioquia, Colombia; Calle 30 No. 3B-45, La Campina, Pereira, Risaralda, Colombia; citizen Colombia; nationality Colombia; Cedula No. 25246532 (Colombia) (individual) [SDNT]

Dated: June 26, 2009.
Barbara C. Hammerle,
Acting Director, Office of Foreign Assets Control.

[FR Doc. E9-16427 Filed 7-14-09; 8:45 am]

BILLING CODE 4811-45-P